DEPARTMENT OF HOMELAND SECURITY

Coast Guard

33 CFR Part 117

[Docket No. USCG-2018-0437]

Drawbridge Operation Regulation; Harlem River, Bronx, New York

AGENCY: Coast Guard, DHS.

ACTION: Notice of deviation from drawbridge regulation.

SUMMARY: The Coast Guard has issued a temporary deviation from the operating schedule that governs the Metro North (Park Avenue) Bridge across the Harlem River, mile 2.1, at Bronx, New York. This temporary deviation is necessary to allow the bridge to open for marine traffic with 24 hour advance notice during construction in the bridge control room.

DATES: This deviation is effective from 12:01 a.m. on June 4, 2018, to 11:59 p.m. on July 31, 2018.

ADDRESSES: The docket for this deviation, USCG-2018-0437 is available at http://www.regulations.gov. Type the docket number in the “SEARCH” box and click “SEARCH.” Click on Open Docket Folder on the line associated with this deviation.

FOR FURTHER INFORMATION CONTACT: If you have questions on this temporary deviation, call or email Judy Leung-Yee, Bridge Management Specialist, First District Bridge Branch, U.S. Coast Guard, telephone 212-514-4336, email Judy.K.Leung-Yee@uscg.mil.

SUPPLEMENTARY INFORMATION: MTA Metro-North Railroad, the bridge owner, requested a temporary deviation from the normal operating schedule to allow the bridge to open for marine traffic with 24 hour advance notice during construction in the bridge control room. The Metro North (Park Avenue) Bridge across the Harlem River, mile 2.1, has a vertical clearance in the closed position of 25 feet at mean high water and 30 feet at mean low water. The existing bridge operating regulations are listed at 33 CFR 117.789(c).

Under this temporary deviation, from 12:01 a.m. on June 4, 2018, to 11:59 p.m. on July 31, 2018 the Metro North (Park Avenue) Bridge shall open on signal provided if at least a twenty-four hour advance notice is given. The draw need not open for the passage of vessel traffic from 5 a.m. to 10 a.m. and 4 p.m. to 8 p.m., Monday through Friday, except Federal holidays.

The waterway is transited by commercial and recreational traffic. The Coast Guard notified known commercial vessel operators that transit the area and there were no objections to this temporary deviation. Vessels able to pass under the bridge in the closed position may do so at any time. The bridge will not be able to open for emergencies and there is no immediate alternate route for vessels to pass.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: May 22, 2018.
C.J. Bisignano,
Supervisory Bridge Management Specialist, First Coast Guard District.

[FR Doc. 2018-11371 Filed 5-25-18; 8:45 am]

BILLING CODE 9110-04-P